DEPARTMENT OF COMMERCE

International Trade Administration

[A-201-809]

Cut-to-length Carbon Steel Plate from Mexico; Notice of Extension of Time Limit for Final Results in Antidumping Duty Administrative Review

AGENCY: Import Administration, International Trade Administration, Department of Commerce.

EFFECTIVE DATE: November 13, 2002.

SUMMARY: The Department of Commerce is extending the time limit for completion of the final results of the administrative review of the antidumping duty order on cut-to-length carbon steel plate from Mexico. The period of review is August 1, 2000, through July 31, 2001.

FOR FURTHER INFORMATION CONTACT: Thomas Killiam or Michael Heaney at (202)482-5222 or (202) 482-4475, respectively, AD/CVD Enforcement Group III, Office 8, Import Administration, International Trade Administration, U.S. Department of Commerce, 14th Street and Constitution Avenue, NW., Washington, DC 20230.

SUPPLEMENTARY INFORMATION:

Applicable Statute and Regulations

Unless otherwise indicated, all citations to the Tariff Act of 1930, as amended (the Tariff Act), are references to the provisions effective January 1, 1995, the effective date of the amendments made to the Tariff Act by the Uruguay Round Agreements Act. In addition, unless otherwise indicated, all citations to the Department's regulations are to 19 CFR part 351 (2001).

On September 13, 2002, the Department published preliminary results of the administrative review of the antidumping duty order on cut-to-length carbon steel plate from Mexico (67 FR 58015). The period of review is August 1, 2000, through July 31, 2001. The review covers one producer/exporter of the subject merchandise to the United States, Altos Hornos de Mexico, S.A. de C.V.

Pursuant to section 751(a)(3)(A) of the Tariff Act, the Department shall make a final determination within 120 days after the date on which the preliminary determination is published.

The Tariff Act further provides, however, that the Department may extend the 120-day period to 180 days if it determines it is not practicable to complete the review within the foregoing time period. This review involves a number of complicated sales and cost issues. As a result, we need additional time for our analysis. Because it is not practicable to complete this administrative review within the time limit mandated by section 751(a)(3)(A) of the Tariff Act, the Department is extending the time limit for completion of the final results. Consequently, we have extended the deadline until March 12, 2002.

This extension is in accordance with section 751(a)(3)(A) of the Tariff Act (19 USC 1675(a)(3)(A)(2000)) and 19 CFR 351.213(h)(2).

Dated: November 1, 2002.
Joseph A. Spetrini,
Deputy Assistant Secretary for Import Administration Group III.

[FR Doc. 02-28813 Filed 11-12-02; 8:45 am]

BILLING CODE 3510-DS-S